DEPARTMENT OF TRANSPORTATION

Federal Aviation Administration

14 CFR Part 97

[Docket No. 30989; Amdt. No. 3618]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 3, 2014. The compliance date for each SIAP, associated Takeoff Minimums, and ODP is specified in the amendatory provisions.

The incorporation by reference of certain publications listed in the regulations is approved by the Director of the Federal Register as of December 3, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFRs and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on November 7, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
11-Dec-14 | AK | Point Hope | Point Hope | 4/8003 | 10/14/14 | This NOTAM, published in TL 14-25, is hereby rescinded in its entirety.
11-Dec-14 | AK | Point Hope | Point Hope | 4/8004 | 10/14/14 | This NOTAM, published in TL 14-25, is hereby rescinded in its entirety.
11-Dec-14 | MA | Hyannis | Barnstable Muni-Boardman/Polando Field | 4/0009 | 10/22/14 | RNAV (GPS) RWY 33, Orig.
11-Dec-14 | KY | Hopkinsville | Hopkinsville-Christian County | 4/0014 | 10/22/14 | RNAV (GPS) RWY 26, Amdt 1.
11-Dec-14 | NY | East Hampton | East Hampton | 4/0027 | 10/22/14 | RNAV (GPS) X RWY 10, Orig.
11-Dec-14 | AL | Bessemer | Bessemer | 4/0029 | 10/23/14 | RNAV (GPS) RWY 5, Amdt 1.
11-Dec-14 | AL | Bessemer | Bessemer | 4/0030 | 10/23/14 | ILS OR LOC RWY 5, Amdt 2.
11-Dec-14 | VT | Highgate | Franklin County State | 4/0040 | 10/22/14 | VOR/DME RWY 19, Amdt 5.
11-Dec-14 | VT | Highgate | Franklin County State | 4/0041 | 10/22/14 | RNAV (GPS) RWY 1, Amdt 3.
11-Dec-14 | VT | Highgate | Franklin County State | 4/0044 | 10/22/14 | RNAV (GPS) RWY 19, Amdt 1.
11-Dec-14 | NC | Shelby | Shelby-Cleveland County Rgnl | 4/0188 | 10/22/14 | RNAV (GPS) RWY 5, Amdt 2.
11-Dec-14 | NC | Shelby | Shelby-Cleveland County Rgnl | 4/0190 | 10/22/14 | RNAV (GPS) RWY 23, Orig.
11-Dec-14 | NC | Monroe | Charlotte-Monroe Executive | 4/0192 | 10/21/14 | RNAV (GPS) RWY 23, Orig-A.
11-Dec-14 | VT | Newport | Newport State | 4/0193 | 10/22/14 | RNAV (GPS) RWY 36, Orig.
11-Dec-14 | NC | Edenton | Northeastern Rgnl | 4/0198 | 10/22/14 | ILS OR LOC RWY 19, Orig-A.
11-Dec-14 | FL | Panama City | Northwest Florida Beaches Intl | 4/0200 | 10/22/14 | RNAV (GPS) RWY 34, Amdt 2A.
11-Dec-14 | MD | Easton | Easton/Newnam Field | 4/0201 | 10/21/14 | RNAV (GPS) RWY 22, Amdt 1A.
11-Dec-14 | NC | Lexington | Davidson County | 4/0226 | 10/21/14 | ILS OR LOC/DME RWY 6, Amdt 1A.
11-Dec-14 | NC | Lexington | Davidson County | 4/0228 | 10/21/14 | RNAV (GPS) RWY 6, Orig.
11-Dec-14 | NC | Lexington | Davidson County | 4/0230 | 10/21/14 | RNAV (GPS) RWY 24, Orig.
11-Dec-14 | AL | Eufaula | Weedon Field | 4/0239 | 10/21/14 | RNAV (GPS) RWY 18, Amdt 1.
11-Dec-14 | AL | Eufaula | Weedon Field | 4/0240 | 10/21/14 | RNAV (GPS) RWY 36, Amdt 1.
11-Dec-14 | AZ | Phoenix | Phoenix-Mesa Gateway | 4/0294 | 10/24/14 | ILS OR LOC RWY 30C, Amdt 3A.
11-Dec-14 | AZ | Phoenix | Phoenix-Mesa Gateway | 4/0295 | 10/24/14 | RNAV (GPS) RWY 12R, Amdt 1A.
11-Dec-14 | AZ | Phoenix | Phoenix-Mesa Gateway | 4/0296 | 10/24/14 | RNAV (GPS) RWY 30L, Amdt 1A.
11-Dec-14 | AZ | Phoenix | Phoenix-Mesa Gateway | 4/0297 | 10/24/14 | RNAV (GPS) Y RWY 30C, Amdt 1A.
11-Dec-14 | AZ | Phoenix | Phoenix-Mesa Gateway | 4/0298 | 10/24/14 | VOR OR TACAN RWY 30C, Amdt 2A.
11-Dec-14 | FL | Orlando | Kissimmee Gateway | 4/0462 | 10/22/14 | RNAV (GPS) RWY 33, Amdt 2.
11-Dec-14 | FL | Orlando | Kissimmee Gateway | 4/0466 | 10/22/14 | RNAV (GPS) RWY 6, Orig.
11-Dec-14 | GA | Douglas | Douglas Muni | 4/0542 | 10/22/14 | ILS OR LOC/NDB RWY 4, Amdt 2.
11-Dec-14 | GA | Douglas | Douglas Muni | 4/0543 | 10/22/14 | RNAV (GPS) RWY 4, Amdt 1.
11-Dec-14 | GA | Douglas | Douglas Muni | 4/0544 | 10/22/14 | RNAV (GPS) RWY 22, Amdt 1.
11-Dec-14 | PA | Doylestown | Doylestown | 4/0545 | 10/22/14 | VOR/DME RWY 23, Amdt 8.
11-Dec-14 | GA | Elberton | Elbert County-Patz Field | 4/0548 | 10/21/14 | RNAV (GPS) RWY 11, Amdt 1.
11-Dec-14 | GA | Elberton | Elbert County-Patz Field | 4/0550 | 10/21/14 | VOR/DME RWY 11, Amdt 4.
11-Dec-14 | GA | Elberton | Elbert County-Patz Field | 4/0551 | 10/21/14 | RNAV (GPS) RWY 29, Amdt 1.
11-Dec-14 | NC | Kenansville | Duplin Co | 4/0552 | 10/21/14 | RNAV (GPS) RWY 23, Orig.
11-Dec-14 | NC | Kenansville | Duplin Co | 4/0553 | 10/21/14 | RNAV (GPS) RWY 5, Orig.
11-Dec-14 | NC | Kenansville | Duplin Co | 4/0554 | 10/21/14 | LOC/NDB RWY 23, Amdt 1.
11-Dec-14 | MA | Boston | General Edward Lawrence Logan Intl | 4/0653 | 10/30/14 | RNAV (GPS) RWY 32, Orig-D.
11-Dec-14 | FL | Melbourne | Melbourne Intl | 4/0654 | 10/24/14 | VOR RWY 9R, Amdt 21.
11-Dec-14 | FL | Melbourne | Melbourne Intl | 4/0655 | 10/24/14 | ILS OR LOC RWY 9R, Amdt 12.
11-Dec-14 | FL | Melbourne | Melbourne Intl | 4/0656 | 10/24/14 | RNAV (GPS) RWY 9R, Amdt 1.
11-Dec-14 | FL | Melbourne | Melbourne Intl | 4/0662 | 10/24/14 | LOC BC RWY 27L, Amdt 10.
11-Dec-14 | FL | Melbourne | Melbourne Intl | 4/0664 | 10/24/14 | RNAV (GPS) RWY 27L, Amdt 1.
11-Dec-14 | FL | Melbourne | Melbourne Intl | 4/0678 | 10/24/14 | RNAV (GPS) RWY 27R, Amdt 1.
11-Dec-14 | FL | Melbourne | Melbourne Intl | 4/0690 | 10/24/14 | RNAV (GPS) RWY 9L, Amdt 1.
11-Dec-14 | FL | St Petersburg | Albert Whitted | 4/0722 | 10/24/14 | RNAV (GPS) RWY 7, Amdt 3.
11-Dec-14 | WV | Huntington | Tri-State/Milton J. Ferguson Field | 4/0983 | 10/27/14 | RNAV (GPS) RWY 30, Amdt 1.
11-Dec-14 | WV | Huntington | Tri-State/Milton J. Ferguson Field | 4/0984 | 10/27/14 | RNAV (GPS) RWY 12, Amdt 3.
11-Dec-14 | WV | Huntington | Tri-State/Milton J. Ferguson Field | 4/0986 | 10/27/14 | ILS OR LOC RWY 30, Amdt 7.
11-Dec-14 | WV | Huntington | Tri-State/Milton J. Ferguson Field | 4/0987 | 10/27/14 | ILS OR LOC RWY 12, Amdt 14.
11-Dec-14 | DE | Georgetown | Sussex County | 4/1003 | 10/30/14 | RNAV (GPS) RWY 22, Amdt 2.
11-Dec-14 | CT | Meriden | Meriden Markham Muni | 4/1091 | 10/24/14 | RNAV (GPS) RWY 36, Orig-B.
11-Dec-14 | VA | Fredericksburg | Shannon | 4/1108 | 10/21/14 | NDB RWY 24, Amdt 3.
11-Dec-14 | VA | Fredericksburg | Shannon | 4/1110 | 10/21/14 | RNAV (GPS) RWY 24, Orig.
11-Dec-14 | MS | Marks | Selfs | 4/1125 | 10/24/14 | RNAV (GPS) RWY 2, Amdt 1.
11-Dec-14 | MS | Marks | Selfs | 4/1126 | 10/24/14 | RNAV (GPS) RWY 20, Amdt 1.
11-Dec-14 | NJ | Morristown | Morristown Muni | 4/1128 | 10/30/14 | ILS OR LOC RWY 23, Amdt 10.
11-Dec-14 | NJ | Morristown | Morristown Muni | 4/1129 | 10/30/14 | RNAV (GPS) Z RWY 23, Orig-A.
11-Dec-14 | NJ | Morristown | Morristown Muni | 4/1130 | 10/30/14 | RNAV (GPS) RWY 5, Amdt 3A.
11-Dec-14 | NJ | Morristown | Morristown Muni | 4/1132 | 10/30/14 | RNAV (RNP) Y RWY 23, Orig.
11-Dec-14 | ME | Millinocket | Millinocket Muni | 4/1136 | 10/24/14 | RNAV (GPS) RWY 11, Orig.
11-Dec-14 | TN | Huntingdon | Carroll County | 4/1191 | 10/23/14 | RNAV (GPS) RWY 19, Amdt 1.
11-Dec-14 | TN | Huntingdon | Carroll County | 4/1192 | 10/23/14 | RNAV (GPS) RWY 1, Amdt 1.
11-Dec-14 | ME | Houlton | Houlton Intl | 4/1193 | 10/29/14 | RNAV (GPS) RWY 5, Orig.
11-Dec-14 | ME | Houlton | Houlton Intl | 4/1194 | 10/29/14 | VOR/DME RWY 5, Amdt 11.
11-Dec-14 | ME | Millinocket | Millinocket Muni | 4/1352 | 10/24/14 | RNAV (GPS) RWY 29, Amdt 1.
11-Dec-14 | SC | Conway | Conway-Horry County | 4/1375 | 10/28/14 | NDB RWY 22, Amdt 1.
11-Dec-14 | SC | Conway | Conway-Horry County | 4/1378 | 10/28/14 | RNAV (GPS) RWY 22, Amdt 1.
11-Dec-14 | SC | Conway | Conway-Horry County | 4/1380 | 10/28/14 | NDB RWY 4, Orig-B.
11-Dec-14 | SC | Conway | Conway-Horry County | 4/1387 | 10/28/14 | RNAV (GPS) RWY 4, Amdt 1.
11-Dec-14 | TN | Madisonville | Monroe County | 4/1400 | 10/24/14 | RNAV (GPS) RWY 23, Amdt 2.
11-Dec-14 | TN | Madisonville | Monroe County | 4/1401 | 10/24/14 | RNAV (GPS) RWY 5, Amdt 2A.
11-Dec-14 | TN | Morristown | Moore-Murrell | 4/1429 | 10/24/14 | RNAV (GPS) RWY 23, Orig-A.
11-Dec-14 | TN | Morristown | Moore-Murrell | 4/1430 | 10/24/14 | SDF RWY 5, Amdt 5A.
11-Dec-14 | TN | Morristown | Moore-Murrell | 4/1432 | 10/24/14 | RNAV (GPS) RWY 5, Orig-A.
11-Dec-14 | TN | Morristown | Moore-Murrell | 4/1433 | 10/24/14 | NDB RWY 5, Amdt 5A.
11-Dec-14 | PA | Mount Pocono | Pocono Mountains Muni | 4/1531 | 10/27/14 | VOR/DME RWY 13, Amdt 8.
11-Dec-14 | PA | Mount Pocono | Pocono Mountains Muni | 4/1532 | 10/27/14 | RNAV (GPS) RWY 31, Amdt 2A.
11-Dec-14 | PA | Mount Pocono | Pocono Mountains Muni | 4/1533 | 10/27/14 | RNAV (GPS) RWY 13, Amdt 3A.
11-Dec-14 | NC | Manteo | Dare County Rgnl | 4/1569 | 10/27/14 | RNAV (GPS) RWY 5, Orig-A.
11-Dec-14 | NC | Manteo | Dare County Rgnl | 4/1570 | 10/27/14 | RNAV (GPS) RWY 23, Orig.
11-Dec-14 | NC | Manteo | Dare County Rgnl | 4/1571 | 10/27/14 | VOR RWY 17, Amdt 4.
11-Dec-14 | NC | Manteo | Dare County Rgnl | 4/1572 | 10/27/14 | RNAV (GPS) RWY 17, Orig.
11-Dec-14 | NC | Manteo | Dare County Rgnl | 4/1573 | 10/27/14 | NDB RWY 17, Amdt 6.
11-Dec-14 | MS | Jackson | Hawkins Field | 4/1601 | 10/27/14 | ILS OR LOC RWY 16, Amdt 6.
11-Dec-14 | MS | Jackson | Hawkins Field | 4/1609 | 10/27/14 | RNAV (GPS) RWY 16, Amdt 2.
11-Dec-14 | NY | New York | Long Island Mac Arthur | 4/1723 | 10/27/14 | RNAV (GPS) RWY 15R, Orig-A.
11-Dec-14 | NY | New York | Long Island Mac Arthur | 4/1724 | 10/27/14 | ILS OR LOC RWY 24, Amdt 4B.
11-Dec-14 | NY | New York | Long Island Mac Arthur | 4/1725 | 10/27/14 | RNAV (GPS) RWY 24, Amdt 1B.
11-Dec-14 | NY | New York | Long Island Mac Arthur | 4/1726 | 10/27/14 | RNAV (GPS) RWY 33L, Orig-A.
11-Dec-14 | NC | Roanoke Rapids | Halifax-Northampton Rgnl | 4/1727 | 10/27/14 | RNAV (GPS) RWY 2, Amdt 1.
11-Dec-14 | NC | Roanoke Rapids | Halifax-Northampton Rgnl | 4/1728 | 10/27/14 | RNAV (GPS) RWY 20, Amdt 1.
11-Dec-14 | FL | Jacksonville | Jacksonville Intl | 4/1730 | 10/29/14 | ILS OR LOC RWY 26, Amdt 2.
11-Dec-14 | AL | Gulf Shores | Jack Edwards | 4/1731 | 10/27/14 | RNAV (GPS) RWY 9, Amdt 3.
11-Dec-14 | FL | Jacksonville | Jacksonville Intl | 4/1733 | 10/29/14 | RNAV (RNP) Y RWY 26, Amdt 1.
11-Dec-14 | FL | Jacksonville | Jacksonville Intl | 4/1734 | 10/29/14 | RNAV (GPS) Z RWY 26, Amdt 2.
11-Dec-14 | NY | Piseco | Piseco | 4/1746 | 10/27/14 | RNAV (GPS) RWY 4, Orig.
11-Dec-14 | KY | Falmouth | Gene Snyder | 4/1747 | 10/27/14 | RNAV (GPS) RWY 21, Orig.
11-Dec-14 | KY | Lewisport | Hancock Co-Ron Lewis Field | 4/1748 | 10/27/14 | RNAV (GPS) RWY 23, Amdt 1.
11-Dec-14 | KY | Lewisport | Hancock Co-Ron Lewis Field | 4/1749 | 10/27/14 | RNAV (GPS) RWY 5, Amdt 1.
11-Dec-14 | FL | Lakeland | Lakeland Linder Rgnl | 4/1750 | 10/30/14 | RNAV (GPS) RWY 5, Orig-B.
11-Dec-14 | FL | Miami | Miami Intl | 4/1881 | 10/27/14 | ILS OR LOC RWY 8R, Amdt 30C.
11-Dec-14 | FL | Miami | Miami Intl | 4/1885 | 10/27/14 | ILS OR LOC RWY 9, Amdt 9C.
11-Dec-14 | FL | Miami | Miami Intl | 4/1886 | 10/27/14 | RNAV (GPS) RWY 9, Amdt 1.
11-Dec-14 | FL | Miami | Miami Intl | 4/1887 | 10/27/14 | RNAV (GPS) RWY 26R, Amdt 2.
11-Dec-14 | FL | Miami | Miami Intl | 4/1888 | 10/27/14 | ILS OR LOC RWY 27, Amdt 25A.
11-Dec-14 | PA | Johnstown | John Murtha Johnstown-Cambria Co | 4/1983 | 10/28/14 | ILS OR LOC/DME RWY 33, Amdt 7.
11-Dec-14 | PA | Johnstown | John Murtha Johnstown-Cambria Co | 4/1984 | 10/28/14 | VOR/DME OR TACAN RWY 15, Amdt 6.
11-Dec-14 | PA | Johnstown | John Murtha Johnstown-Cambria Co | 4/1985 | 10/28/14 | VOR/DME OR TACAN RWY 23, Amdt 3.
11-Dec-14 | PA | Johnstown | John Murtha Johnstown-Cambria Co | 4/1988 | 10/28/14 | RNAV (GPS) RWY 23, Amdt 2.
11-Dec-14 | PA | Johnstown | John Murtha Johnstown-Cambria Co | 4/1989 | 10/28/14 | RNAV (GPS) RWY 5, Amdt 2.
11-Dec-14 | MS | Raymond | John Bell Williams | 4/2014 | 10/28/14 | ILS OR LOC RWY 12, Amdt 1.
11-Dec-14 | MS | Raymond | John Bell Williams | 4/2015 | 10/28/14 | RNAV (GPS) RWY 12, Amdt 3.
11-Dec-14 | MS | Raymond | John Bell Williams | 4/2018 | 10/28/14 | NDB RWY 12, Amdt 3.
11-Dec-14 | AL | Gulf Shores | Jack Edwards | 4/2023 | 10/27/14 | ILS OR LOC RWY 27, Amdt 1.
11-Dec-14 | AL | Gulf Shores | Jack Edwards | 4/2024 | 10/27/14 | RNAV (GPS) RWY 27, Amdt 2.
11-Dec-14 | MD | Baltimore | Martin State | 4/2026 | 10/27/14 | RNAV (GPS) RWY 15, Amdt 1.
11-Dec-14 | MD | Baltimore | Martin State | 4/2027 | 10/27/14 | LOC RWY 15, Amdt 3.
11-Dec-14 | VA | Leesburg | Leesburg Executive | 4/2029 | 10/27/14 | RNAV (GPS) RWY 17, Amdt 3.
11-Dec-14 | VA | Leesburg | Leesburg Executive | 4/2030 | 10/27/14 | ILS OR LOC RWY 17, Amdt 1.
11-Dec-14 | NC | Lumberton | Lumberton Rgnl | 4/2042 | 10/28/14 | RNAV (GPS) RWY 23, Orig-A.
11-Dec-14 | NC | Lumberton | Lumberton Rgnl | 4/2043 | 10/28/14 | RNAV (GPS) RWY 13, Orig-A.
11-Dec-14 | NC | Lumberton | Lumberton Rgnl | 4/2044 | 10/28/14 | RNAV (GPS) RWY 5, Orig-A.
11-Dec-14 | NC | Lumberton | Lumberton Rgnl | 4/2045 | 10/28/14 | ILS OR LOC RWY 5, Amdt 1A.
11-Dec-14 | FL | Lake City | Lake City Gateway | 4/2046 | 10/28/14 | RNAV (GPS) RWY 10, Orig-D.
11-Dec-14 | NJ | Millville | Millville Muni | 4/2053 | 10/28/14 | RNAV (GPS) RWY 14, Orig-C.
11-Dec-14 | MS | Prentiss | Prentiss-Jefferson Davis County | 4/2092 | 10/27/14 | RNAV (GPS) RWY 12, Amdt 1.
11-Dec-14 | MS | Prentiss | Prentiss-Jefferson Davis County | 4/2093 | 10/27/14 | RNAV (GPS) RWY 30, Amdt 2.
11-Dec-14 | NY | New York | Long Island Mac Arthur | 4/2094 | 10/27/14 | ILS OR LOC RWY 6, Amdt 24.
11-Dec-14 | NY | New York | Long Island Mac Arthur | 4/2095 | 10/27/14 | RNAV (GPS) RWY 6, Amdt 1A.
11-Dec-14 | NY | Malone | Malone-Dufort | 4/2185 | 10/28/14 | RNAV (GPS) RWY 5, Orig.
11-Dec-14 | NY | Malone | Malone-Dufort | 4/2186 | 10/28/14 | RNAV (GPS) RWY 23, Orig.
11-Dec-14 | PA | Monongahela | Rostraver | 4/2187 | 10/27/14 | RNAV (GPS) RWY 26, Orig-A.
11-Dec-14 | MA | Falmouth | Cape Cod Coast Guard Air Station | 4/2189 | 10/30/14 | TACAN RWY 14, Amdt 2.
11-Dec-14 | MA | Falmouth | Cape Cod Coast Guard Air Station | 4/2190 | 10/30/14 | ILS OR LOC RWY 23, Amdt 1A.
11-Dec-14 | GA | Macon | Macon Downtown | 4/2249 | 10/28/14 | RNAV (GPS) RWY 28, Amdt 1.
11-Dec-14 | GA | Macon | Macon Downtown | 4/2250 | 10/28/14 | RNAV (GPS) RWY 10, Amdt 1.
11-Dec-14 | GA | Macon | Macon Downtown | 4/2252 | 10/28/14 | LOC RWY 10, Amdt 7.
11-Dec-14 | AL | Fayette | Richard Arthur Field | 4/2263 | 10/28/14 | RNAV (GPS) RWY 36, Amdt 1A.
11-Dec-14 | NY | Montauk | Montauk | 4/2341 | 10/27/14 | RNAV (GPS) RWY 24, Amdt 1.
11-Dec-14 | SC | Myrtle Beach | Myrtle Beach Intl | 4/2364 | 10/27/14 | RNAV (GPS) RWY 18, Amdt 3.
11-Dec-14 | SC | Myrtle Beach | Myrtle Beach Intl | 4/2365 | 10/27/14 | ILS OR LOC RWY 18, Amdt 3.
11-Dec-14 | SC | Myrtle Beach | Myrtle Beach Intl | 4/2366 | 10/27/14 | RNAV (GPS) RWY 36, Amdt 3.
11-Dec-14 | SC | Myrtle Beach | Myrtle Beach Intl | 4/2367 | 10/27/14 | ILS OR LOC RWY 36, Amdt 3.
11-Dec-14 | NJ | Lumberton | Flying W | 4/2469 | 10/30/14 | RNAV (GPS) RWY 19, Amdt 1.
11-Dec-14 | NJ | Lumberton | Flying W | 4/2470 | 10/30/14 | RNAV (GPS) RWY 1, Amdt 1.
11-Dec-14 | AR | Fayetteville | Drake Field | 4/2510 | 10/28/14 | LDA/DME RWY 34, Amdt 4.
11-Dec-14 | AR | Fayetteville | Drake Field | 4/2512 | 10/28/14 | RNAV (GPS) RWY 34, Amdt 1.
11-Dec-14 | NJ | Pittstown | Sky Manor | 4/2549 | 10/27/14 | RNAV (GPS) RWY 7, Orig.
11-Dec-14 | NJ | Pittstown | Sky Manor | 4/2555 | 10/27/14 | RNAV (GPS) RWY 25, Orig.
11-Dec-14 | TN | Murfreesboro | Murfreesboro Muni | 4/2558 | 10/29/14 | NDB RWY 18, Amdt 1A.
11-Dec-14 | MS | Mc Comb | Mc Comb/Pike County/John E Lewis Field | 4/2585 | 10/29/14 | RNAV (GPS) RWY 15, Amdt 1.
11-Dec-14 | AL | Courtland | Courtland | 4/2639 | 10/23/14 | RNAV (GPS) RWY 13, Amdt 2.
11-Dec-14 | AL | Courtland | Courtland | 4/2640 | 10/23/14 | RNAV (GPS) RWY 31, Amdt 2.
11-Dec-14 | AL | Courtland | Courtland | 4/2641 | 10/23/14 | VOR RWY 13, Amdt 1A.
11-Dec-14 | PA | Shamokin | Northumberland County | 4/2707 | 10/28/14 | VOR RWY 8, Amdt 3C.
11-Dec-14 | PA | Shamokin | Northumberland County | 4/2708 | 10/28/14 | RNAV (GPS) RWY 26, Orig-A.
11-Dec-14 | PA | Shamokin | Northumberland County | 4/2709 | 10/28/14 | RNAV (GPS) RWY 8, Orig-B.
11-Dec-14 | NC | Hickory | Hickory Rgnl | 4/2890 | 10/30/14 | VOR/DME RWY 24, Orig-C.
11-Dec-14 | NC | Hickory | Hickory Rgnl | 4/2891 | 10/30/14 | ILS OR LOC RWY 24, Amdt 8.
11-Dec-14 | NC | Hickory | Hickory Rgnl | 4/2892 | 10/30/14 | RNAV (GPS) RWY 24, Amdt 1.
11-Dec-14 | MS | Meridian | Key Field | 4/2908 | 10/30/14 | RNAV (GPS) RWY 22, Amdt 1.
11-Dec-14 | AR | Camden | Harrell Field | 4/2916 | 10/28/14 | VOR/DME RWY 1, Amdt 10.
11-Dec-14 | GA | Macon | Middle Georgia Rgnl | 4/2978 | 10/29/14 | RNAV (GPS) RWY 31, Amdt 1.
11-Dec-14 | GA | Macon | Middle Georgia Rgnl | 4/2979 | 10/29/14 | ILS OR LOC/DME RWY 5, Amdt 1.
11-Dec-14 | GA | Macon | Middle Georgia Rgnl | 4/2981 | 10/29/14 | RNAV (GPS) RWY 5, Amdt 1.
11-Dec-14 | VA | Marion/Wytheville | Mountain Empire | 4/2985 | 10/28/14 | LOC RWY 26, Amdt 2.
11-Dec-14 | GA | Moultrie | Moultrie Muni | 4/3106 | 10/28/14 | RNAV (GPS) RWY 4, Amdt 1.
11-Dec-14 | GA | Moultrie | Moultrie Muni | 4/3108 | 10/28/14 | RNAV (GPS) RWY 22, Amdt 1.
11-Dec-14 | NC | Maxton | Laurinburg-Maxton | 4/3109 | 10/29/14 | RNAV (GPS) RWY 23, Amdt 1.
11-Dec-14 | AL | Montgomery | Montgomery Rgnl (Dannely Field) | 4/3137 | 10/30/14 | ILS OR LOC RWY 10, Amdt 23G.
11-Dec-14 | AL | Montgomery | Montgomery Rgnl (Dannely Field) | 4/3138 | 10/30/14 | RNAV (GPS) RWY 10, Amdt 1A.
11-Dec-14 | AL | Montgomery | Montgomery Rgnl (Dannely Field) | 4/3139 | 10/30/14 | RNAV (GPS) RWY 28, Amdt 1A.
11-Dec-14 | AL | Montgomery | Montgomery Rgnl (Dannely Field) | 4/3140 | 10/30/14 | ILS Z RWY 28, Orig.
11-Dec-14 | AL | Montgomery | Montgomery Rgnl (Dannely Field) | 4/3141 | 10/30/14 | RNAV (GPS) RWY 3, Amdt 2.
11-Dec-14 | AL | Montgomery | Montgomery Rgnl (Dannely Field) | 4/3142 | 10/30/14 | ILS Y OR LOC RWY 28, Amdt 11.
11-Dec-14 | WI | Racine | John H Batten | 4/3239 | 10/30/14 | ILS OR LOC RWY 4, Amdt 4D.
11-Dec-14 | WI | Racine | John H Batten | 4/3240 | 10/30/14 | VOR RWY 4, Amdt 1A.
11-Dec-14 | FL | Crystal River | Crystal River-Captain Tom Davis Fld | 4/3410 | 10/31/14 | RNAV (GPS) RWY 9, Amdt 1A.
11-Dec-14 | FL | Crystal River | Crystal River-Captain Tom Davis Fld | 4/3413 | 10/31/14 | Takeoff Minimums and (Obstacle) DP, Orig.
11-Dec-14 | FL | Crystal River | Crystal River-Captain Tom Davis Fld | 4/3414 | 10/31/14 | RNAV (GPS) RWY 27, Amdt 1A.
11-Dec-14 | AL | Haleyville | Posey Field | 4/3419 | 10/29/14 | RNAV (GPS) RWY 18, Orig-A.
11-Dec-14 | AL | Haleyville | Posey Field | 4/3420 | 10/29/14 | VOR/DME RWY 18, Amdt 5A.
11-Dec-14 | KY | Springfield | Lebanon-Springfield | 4/3434 | 10/29/14 | RNAV (GPS) RWY 29, Orig-A.
11-Dec-14 | MS | Raymond | John Bell Williams | 4/3435 | 10/29/14 | RNAV (GPS) RWY 30, Amdt 3A.
11-Dec-14 | OR | Newport | Newport Muni | 4/3538 | 10/30/14 | RNAV (GPS) RWY 16, Orig.
11-Dec-14 | OR | Newport | Newport Muni | 4/3539 | 10/30/14 | ILS OR LOC RWY 16, Amdt 1B.
11-Dec-14 | OR | Newport | Newport Muni | 4/3540 | 10/30/14 | VOR/DME RWY 34, Amdt 1A.
11-Dec-14 | OR | Newport | Newport Muni | 4/3541 | 10/30/14 | RNAV (GPS) RWY 34, Orig-A.
11-Dec-14 | OR | Newport | Newport Muni | 4/3542 | 10/30/14 | VOR/DME RWY 16, Amdt 8A.
11-Dec-14 | IL | Chicago | Chicago O'Hare Intl | 4/3688 | 10/30/14 | RNAV (RNP) Y RWY 27L, Orig.
11-Dec-14 | MI | Detroit | Detroit Metropolitan Wayne County | 4/3721 | 10/28/14 | RNAV (GPS) RWY 21L, Amdt 2A.
11-Dec-14 | MI | Detroit | Detroit Metropolitan Wayne County | 4/3725 | 10/28/14 | ILS Y RWY 22R, Orig-B.
11-Dec-14 | MI | Detroit | Detroit Metropolitan Wayne County | 4/3726 | 10/28/14 | ILS PRM Y RWY 22R (SIMULTANEOUS CLOSE PARALLEL), Orig-D.
11-Dec-14 | SC | Charleston | Charleston AFB/Intl | 4/3825 | 10/30/14 | RNAV (RNP) Z RWY 33, Orig-A.
11-Dec-14 | WI | Sturgeon Bay | Door County Cherryland | 4/3829 | 10/28/14 | RNAV (GPS) RWY 2, Amdt 1.
11-Dec-14 | WI | Sturgeon Bay | Door County Cherryland | 4/3830 | 10/28/14 | SDF RWY 2, Amdt 8.
11-Dec-14 | NC | Lincolnton | Lincolnton-Lincoln County Rgnl | 4/3977 | 10/30/14 | ILS Y OR LOC Y RWY 23, Orig.
11-Dec-14 | NC | Lincolnton | Lincolnton-Lincoln County Rgnl | 4/3980 | 10/30/14 | ILS Z OR LOC Z RWY 23, Orig.
11-Dec-14 | NC | Lincolnton | Lincolnton-Lincoln County Rgnl | 4/3983 | 10/30/14 | RNAV (GPS) RWY 5, Amdt 1.
11-Dec-14 | NC | Lincolnton | Lincolnton-Lincoln County Rgnl | 4/3984 | 10/30/14 | NDB RWY 23, Amdt 3.
11-Dec-14 | AL | Dothan | Dothan Rgnl | 4/4094 | 10/30/14 | RNAV (GPS) RWY 32, Amdt 1.
11-Dec-14 | AL | Dothan | Dothan Rgnl | 4/4095 | 10/30/14 | COPTER VOR RWY 36, Amdt 1.
11-Dec-14 | AL | Dothan | Dothan Rgnl | 4/4096 | 10/30/14 | RNAV (GPS) RWY 36, Amdt 1.
11-Dec-14 | AL | Dothan | Dothan Rgnl | 4/4097 | 10/30/14 | RNAV (GPS) RWY 14, Amdt 2.
11-Dec-14 | AL | Dothan | Dothan Rgnl | 4/4098 | 10/30/14 | ILS OR LOC RWY 14, Amdt 1.
11-Dec-14 | MA | Worcester | Worcester Rgnl | 4/4236 | 10/21/14 | ILS OR LOC RWY 11, Amdt 23B.
11-Dec-14 | FL | Hollywood | North Perry | 4/4238 | 10/30/14 | RNAV (GPS) RWY 28R, Orig.
11-Dec-14 | FL | Hollywood | North Perry | 4/4239 | 10/30/14 | RNAV (GPS) RWY 10R, Orig.
11-Dec-14 | FL | Fernandina Beach | Fernandina Beach Muni | 4/4533 | 10/30/14 | RNAV (GPS) RWY 13, Amdt 2.
11-Dec-14 | FL | Fernandina Beach | Fernandina Beach Muni | 4/4534 | 10/30/14 | RNAV (GPS) RWY 22, Amdt 1A.
11-Dec-14 | MI | Detroit | Detroit Metropolitan Wayne County | 4/5083 | 10/28/14 | RNAV (GPS) RWY 27R, Amdt 2A.
11-Dec-14 | MI | Detroit | Detroit Metropolitan Wayne County | 4/5084 | 10/28/14 | ILS OR LOC RWY 27R, Amdt 12A.
11-Dec-14 | KS | Anthony | Anthony Muni | 4/5423 | 10/22/14 | RNAV (GPS) RWY 18, Amdt 1.
11-Dec-14 | KS | El Dorado | El Dorado/Captain Jack Thomas Memorial | 4/5425 | 10/22/14 | RNAV (GPS) RWY 4, Amdt 1.
11-Dec-14 | LA | Natchitoches | Natchitoches Rgnl | 4/5435 | 10/22/14 | NDB RWY 35, Amdt 6.
11-Dec-14 | LA | Natchitoches | Natchitoches Rgnl | 4/5439 | 10/22/14 | LOC RWY 35, Amdt 4.
11-Dec-14 | LA | Natchitoches | Natchitoches Rgnl | 4/5440 | 10/22/14 | RNAV (GPS) RWY 35, Amdt 1.
11-Dec-14 | MN | Brainerd | Brainerd Lakes Rgnl | 4/5441 | 10/22/14 | ILS OR LOC/DME RWY 34, Amdt 1.
11-Dec-14 | MO | Osage Beach | Grand Glaize-Osage Beach | 4/5500 | 10/22/14 | RNAV (GPS) RWY 14, Amdt 1.
11-Dec-14 | MO | Gideon | Gideon Memorial | 4/5501 | 10/22/14 | RNAV (GPS) RWY 33, Orig.
11-Dec-14 | ND | Devils Lake | Devils Lake Rgnl | 4/5502 | 10/22/14 | RNAV (GPS) RWY 3, Amdt 2A.
11-Dec-14 | ND | Devils Lake | Devils Lake Rgnl | 4/5503 | 10/22/14 | VOR RWY 3, Orig-A.
11-Dec-14 | MO | Mountain View | Mountain View | 4/5505 | 10/22/14 | RNAV (GPS) RWY 10, Orig-A.
11-Dec-14 | ND | Hillsboro | Hillsboro Muni | 4/5506 | 10/22/14 | RNAV (GPS) RWY 16, Amdt 1.
11-Dec-14 | ND | Hillsboro | Hillsboro Muni | 4/5507 | 10/22/14 | RNAV (GPS) RWY 34, Amdt 1.
11-Dec-14 | OH | Batavia | Clermont County | 4/5576 | 10/22/14 | RNAV (GPS) RWY 4, Amdt 1A.
11-Dec-14 | VA | Franklin | Franklin Muni-John Beverly Rose | 4/5593 | 10/30/14 | RNAV (GPS) RWY 27, Amdt 1.
11-Dec-14 | VA | Franklin | Franklin Muni-John Beverly Rose | 4/5598 | 10/30/14 | RNAV (GPS) RWY 9, Amdt 1.
11-Dec-14 | OH | New Philadelphia | Harry Clever Field | 4/5611 | 10/22/14 | RNAV (GPS) RWY 14, Orig-A.
11-Dec-14 | OH | Wauseon | Fulton County | 4/5612 | 10/22/14 | RNAV (GPS) RWY 9, Orig.
11-Dec-14 | OK | Ardmore | Ardmore Muni | 4/5614 | 10/22/14 | RNAV (GPS) RWY 13, Orig.
11-Dec-14 | SD | Sioux Falls | Joe Foss Field | 4/5616 | 10/22/14 | RNAV (GPS) RWY 21, Amdt 1A.
11-Dec-14 | SD | Sioux Falls | Joe Foss Field | 4/5617 | 10/22/14 | ILS OR LOC RWY 21, Amdt 10A.
11-Dec-14 | MD | Westminster | Carroll County Rgnl/Jack B Poage Field | 4/5655 | 10/30/14 | RNAV (GPS) RWY 16, Amdt 2.
11-Dec-14 | FL | West Palm Beach | North Palm Beach County General Aviation | 4/5793 | 10/21/14 | ILS OR LOC RWY 8R, Amdt 1.
11-Dec-14 | FL | West Palm Beach | North Palm Beach County General Aviation | 4/5794 | 10/21/14 | RNAV (GPS) RWY 8R, Orig.
11-Dec-14 | TN | Murfreesboro | Murfreesboro Muni | 4/5888 | 10/30/14 | RNAV (GPS) RWY 36, Amdt 2.
11-Dec-14 | SC | Charleston | Charleston AFB/Intl | 4/5893 | 10/30/14 | ILS OR LOC RWY 15, ILS RWY 15 (SA CAT I), ILS RWY 15 (CAT II), Amdt 24.
11-Dec-14 | TN | Nashville | Nashville Intl | 4/5899 | 10/30/14 | ILS OR LOC/DME RWY 2R, ILS RWY 2R (SA CAT I), ILS RWY 2R (CAT II & III), Amdt 8.
11-Dec-14 | GA | Atlanta | Hartsfield—Jackson Atlanta Intl | 4/6564 | 10/30/14 | ILS OR LOC RWY 8L, Amdt 5.
11-Dec-14 | AZ | Mesa | Falcon Fld | 4/6934 | 10/21/14 | RNAV (GPS) RWY 4R, Amdt 1C.
11-Dec-14 | NC | Fayetteville | Fayetteville Rgnl/Grannis Field | 4/7062 | 10/21/14 | LOC BC RWY 22, Amdt 8.
11-Dec-14 | NC | Fayetteville | Fayetteville Rgnl/Grannis Field | 4/7063 | 10/21/14 | RNAV (GPS) RWY 4, Amdt 3.
11-Dec-14 | NC | Fayetteville | Fayetteville Rgnl/Grannis Field | 4/7064 | 10/21/14 | RNAV (GPS) RWY 22, Amdt 5.
11-Dec-14 | MA | New Bedford | New Bedford Rgnl | 4/7164 | 10/23/14 | RNAV (GPS) RWY 32, Orig.
11-Dec-14 | MA | New Bedford | New Bedford Rgnl | 4/7165 | 10/23/14 | RNAV (GPS) RWY 14, Orig.
11-Dec-14 | FL | Fort Myers | Page Field | 4/7498 | 10/24/14 | RNAV (GPS) RWY 31, Orig-A.
11-Dec-14 | VA | Richmond | Richmond Executive-Chesterfield County | 4/7736 | 10/23/14 | ILS OR LOC RWY 33, Amdt 2B.
11-Dec-14 | VA | Richmond | Richmond Executive-Chesterfield County | 4/7738 | 10/23/14 | RNAV (GPS) RWY 15, Amdt 1A.
11-Dec-14 | VA | Richmond | Richmond Executive-Chesterfield County | 4/7739 | 10/23/14 | RNAV (GPS) RWY 33, Orig-B.
11-Dec-14 | PA | Clearfield | Clearfield-Lawrence | 4/7785 | 10/23/14 | RNAV (GPS) RWY 12, Orig.
11-Dec-14 | PA | Clearfield | Clearfield-Lawrence | 4/7788 | 10/23/14 | RNAV (GPS) RWY 30, Amdt 1.
11-Dec-14 | NY | Westhampton Beach | Francis S Gabreski | 4/7797 | 10/23/14 | TACAN RWY 24, Orig.
11-Dec-14 | NY | Westhampton Beach | Francis S Gabreski | 4/7798 | 10/23/14 | ILS OR LOC RWY 24, Amdt 10.
11-Dec-14 | NY | Westhampton Beach | Francis S Gabreski | 4/7799 | 10/23/14 | RNAV (GPS) RWY 24, Amdt 2.
11-Dec-14 | NY | Westhampton Beach | Francis S Gabreski | 4/7800 | 10/23/14 | TACAN RWY 6, Orig.
11-Dec-14 | NY | Westhampton Beach | Francis S Gabreski | 4/7802 | 10/23/14 | RNAV (GPS) RWY 6, Amdt 2.
11-Dec-14 | GA | Cairo | Cairo-Grady County | 4/8390 | 10/23/14 | NDB RWY 13, Amdt 5.
11-Dec-14 | GA | Cairo | Cairo-Grady County | 4/8391 | 10/23/14 | RNAV (GPS) RWY 13, Amdt 1.
11-Dec-14 | GA | Cairo | Cairo-Grady County | 4/8392 | 10/23/14 | RNAV (GPS) RWY 31, Amdt 1.
11-Dec-14 | NJ | Newark | Newark Liberty Intl | 4/8441 | 10/21/14 | RNAV (RNP) Y RWY 22L, Orig-G.
11-Dec-14 | SC | Charleston | Charleston AFB/Intl | 4/8594 | 10/22/14 | RNAV (GPS) Y RWY 21, Amdt 2A.
11-Dec-14 | FL | Deland | Deland Muni-Sidney H Taylor Field | 4/8596 | 10/22/14 | VOR/DME RWY 23, Orig.
11-Dec-14 | SC | Charleston | Charleston AFB/Intl | 4/8597 | 10/22/14 | RNAV (RNP) Z RWY 21, Orig-A.
11-Dec-14 | TN | Knoxville | Knoxville Downtown Island | 4/8608 | 10/22/14 | RNAV (GPS) RWY 26, Orig-A.
11-Dec-14 | SC | Charleston | Charleston AFB/Intl | 4/8609 | 10/22/14 | RNAV (GPS) Y RWY 3, Amdt 2A.
11-Dec-14 | SC | Charleston | Charleston AFB/Intl | 4/8614 | 10/22/14 | RNAV (RNP) Z RWY 3, Orig-A.
11-Dec-14 | SC | Charleston | Charleston AFB/Intl | 4/8637 | 10/22/14 | RNAV (GPS) Y RWY 33, Amdt 3A.
11-Dec-14 | SC | Charleston | Charleston AFB/Intl | 4/8643 | 10/22/14 | RNAV (GPS) Y RWY 15, Amdt 3A.
11-Dec-14 | SC | Charleston | Charleston AFB/Intl | 4/8648 | 10/22/14 | RNAV (RNP) Z RWY 15, Orig-A.
11-Dec-14 | SC | Charleston | Charleston AFB/Intl | 4/8651 | 10/22/14 | ILS OR LOC/DME RWY 33, Amdt 8A.
11-Dec-14 | FL | Destin | Destin-Fort Walton Beach | 4/8942 | 10/21/14 | RNAV (GPS) RWY 32, Amdt 1.
11-Dec-14 | FL | Destin | Destin-Fort Walton Beach | 4/8943 | 10/21/14 | RNAV (GPS) RWY 14, Amdt 2.
11-Dec-14 | PA | Pittsburgh | Allegheny County | 4/9273 | 10/22/14 | ILS OR LOC RWY 10, Amdt 6.
11-Dec-14 | PA | Pittsburgh | Allegheny County | 4/9274 | 10/30/14 | RNAV (GPS) RWY 10, Amdt 4.
11-Dec-14 | PA | Pittsburgh | Allegheny County | 4/9276 | 10/22/14 | ILS OR LOC RWY 28, Amdt 29.
11-Dec-14 | TN | Nashville | Nashville Intl | 4/9446 | 10/24/14 | RNAV (GPS) Y RWY 2C, Amdt 1B.
11-Dec-14 | TN | Nashville | Nashville Intl | 4/9449 | 10/24/14 | ILS OR LOC/DME RWY 20L, Amdt 6.
11-Dec-14 | TN | Nashville | Nashville Intl | 4/9451 | 10/24/14 | ILS OR LOC RWY 20R, Amdt 10B.
11-Dec-14 | TN | Nashville | Nashville Intl | 4/9453 | 10/24/14 | ILS OR LOC RWY 2C, Amdt 1B.
11-Dec-14 | TN | Nashville | Nashville Intl | 4/9456 | 10/24/14 | RNAV (GPS) Y RWY 20L, Amdt 2.
11-Dec-14 | TN | Nashville | Nashville Intl | 4/9460 | 10/24/14 | RNAV (GPS) Y RWY 2L, Amdt 2.
11-Dec-14 | TN | Nashville | Nashville Intl | 4/9461 | 10/24/14 | RNAV (GPS) Y RWY 2R, Amdt 2.
11-Dec-14 | TN | Nashville | Nashville Intl | 4/9462 | 10/24/14 | RNAV (GPS) Y RWY 20R, Amdt 2B.
11-Dec-14 | TN | Nashville | Nashville Intl | 4/9469 | 10/24/14 | RNAV (RNP) Z RWY 20L, Amdt 2.
11-Dec-14 | TN | Nashville | Nashville Intl | 4/9470 | 10/24/14 | RNAV (RNP) Z RWY 20R, Amdt 2.
11-Dec-14 | AR | Camden | Harrell Field | 4/9682 | 10/28/14 | RNAV (GPS) RWY 1, Amdt 1.
11-Dec-14 | SC | Aiken | Aiken Muni | 4/9754 | 10/24/14 | ILS OR LOC/DME RWY 7, Orig-B.
11-Dec-14 | SC | Aiken | Aiken Muni | 4/9755 | 10/24/14 | RNAV (GPS) RWY 25, Amdt 1A.
11-Dec-14 | SC | Aiken | Aiken Muni | 4/9756 | 10/24/14 | RNAV (GPS) RWY 7, Amdt 1A.
11-Dec-14 | SC | Aiken | Aiken Muni | 4/9758 | 10/24/14 | NDB RWY 25, Amdt 10A.
11-Dec-14 | TN | Nashville | Nashville Intl | 4/9766 | 10/24/14 | ILS OR LOC RWY 2L, ILS RWY 2L (SA CAT I), ILS RWY 2L (CAT II-III), Amdt 10.
11-Dec-14 | OK | Pryor | Mid-America Industrial | 4/9913 | 10/28/14 | VOR/DME OR GPS A, Orig.
11-Dec-14 | GA | Cochran | Cochran | 4/9948 | 10/22/14 | RNAV (GPS) RWY 11, Amdt 1.
11-Dec-14 | GA | Thomson | Thomson-McDuffie County | 4/9973 | 10/22/14 | ILS OR LOC/NDB RWY 10, Amdt 1.

[FR Doc. 2014-28237 Filed 12-2-14; 8:45 am]

BILLING CODE 4910-13-P